DEPARTMENT OF TRANSPORTATION

Federal Aviation Administration

Notice of Intent To Rule on Request To Release Airport Property at the Snohomish County Airport/Paine Field, Everett, WA

AGENCY: Federal Aviation Administration (FAA), DOT.

ACTION: Notice of request to release airport property.

SUMMARY: The FAA proposes to rule and invite public comment on the release of land at Snohomish County Airport/Paine Field under the provisions of Section 125 of the Wendell H. Ford Aviation Investment Reform Act for the 21st Century (AIR 21).

DATES: Comments must be received on or before July 22, 2002.

ADDRESSES: Comments on this application may be mailed or delivered to the FAA at the following address: Mr. J. Wade Bryant, Manager, Federal Aviation Administration, Northwest Mountain Region, Seattle Airports District Office, 1601 Lind Avenue, SW., Suite 250, Renton, Washington 98055-4056.

In addition, one copy of any comments submitted to the FAA must be mailed or delivered to Mr. Dave Waggoner, Airport Director, 3220-100th Street, SW., Everett, Washington 98204-1390.

FOR FURTHER INFORMATION CONTACT: Mr. Jeff Winter, Project Manager, Federal Aviation Administration, Northwest Mountain Region, Seattle Airports District Office, 1601 Lind Avenue, SW., Suite 250, Renton, Washington 98055-4056.

The request to release property may be reviewed in person at this same location, by appointment.

SUPPLEMENTARY INFORMATION: The FAA invites public comment on the request to release property at the Snohomish County Airport/Paine Field under the provisions of the AIR 21.

On May 30, 2002, the FAA determined that the request to release property at Snohomish County Airport/Paine Field submitted by the county met the procedural requirements of the Federal Aviation Regulations, Part 155. The FAA may approve the request, in whole or in part, no later than July 22, 2002.

The following is a brief overview of the request.

The Smohomish County Airport/Paine Field requests the release of 14.50 acres of non-aeronautical airport property to the Snohomish County Parks Department. The purpose of this release is to transfer land, which has been predominately leased by the Parks Department from the airport for nearly 20 years. The Parks Department plans to continue to use the property as a little league ballpark facility. The parcel proposed for sale has not been used for aviation purposes and no aeronautical use of the property is planned or anticipated. Snohomish County, a political subdivision of the State of Washington, on behalf of the Snohomish County Airport/Paine Field requests the release from the terms, conditions, reservations, and restrictions imposed upon the property deeded to the Airport by the United States of America, and the release of the subject property from any assurances of the County as sponsor as contained in any FAAP, ADAP, or AIP grant agreement. The release of the property will benefit the users of the airport as the fair market value revenues generated from the sale of this property will be applied to offset costs incurred by the airport for the 2000 Runway Safety Area Project. Any person may inspect the request in person at the FAA office listed under FOR FURTHER INFORMATION CONTACT.

In addition, any person may, upon request, inspect the application, notice and other documents germane to the application in person at the Snohomish County Airport, 3220—100th Street, SW., Everett, Washington 98204-1390.

Issued in Renton, Washington on May 30, 2002.
J. Wade Bryant,
Manager, Seattle Airports District Office.

[FR Doc. 02-16169 Filed 6-26-02; 8:45 am]

BILLING CODE 4910-13-M